Proclamation 8263 of May 29, 2008

National Homeownership Month, 2008

By the President of the United States of America

A Proclamation

For many Americans, owning a home represents freedom, independence, and the American dream. During National Homeownership Month, we highlight the benefits of owning a home and encourage our fellow citizens to be responsible homeowners.

My Administration is committed to helping Americans achieve their dreams of homeownership. We have worked to ensure that the mortgage industry is more transparent, reliable, and fair, and in order to sustain homeownership, we have launched initiatives to help responsible homeowners keep their homes. The FHASecure program has given the Federal Housing Administration more flexibility in refinancing mortgages for homeowners who have good credit histories but cannot afford their current payments. In addition, the HOPE NOW Alliance connects struggling homeowners with lenders, loan servicers, and mortgage counselors to help families stay in their homes. Homeowners deserve our help, and these initiatives assist those in need.

During National Homeownership Month and throughout the year, I encourage all Americans to take advantage of financial education opportunities to explore homeownership. My Advisory Council on Financial Literacy is finding ways to help educate people from all walks of life about matters pertaining to their finances and their futures. By practicing fiscal responsibility, Americans can contribute to the strength of our neighborhoods and our country.

NOW, THEREFORE, I, GEORGE W. BUSH, President of the United States of America, by virtue of the authority vested in me by the Constitution and laws of the United States, do hereby proclaim June 2008 as National Homeownership Month. I call upon the people of the United States to join me in recognizing the importance of homeownership and building a more prosperous future for themselves and their communities.

IN WITNESS WHEREOF, I have hereunto set my hand this twenty-ninth day of May, in the year of our Lord two thousand eight, and of the Independence of the United States of America the two hundred and thirty-second.

[FR Doc. 08-1320

Filed 6-2-08; 10:13 am]

Billing code 3195-01-P